DEPARTMENT OF COMMERCE

National Oceanic and Atmospheric Administration

50 CFR Part 660

[Docket No. 031216314-3314-01; I.D. 0070104B]

Fisheries Off West Coast States and in the Western Pacific; Pacific Coast Groundfish Fishery; Annual Specifications and Management Measures; Inseason Adjustments

AGENCY: National Marine Fisheries Service (NMFS), National Oceanic and Atmospheric Administration (NOAA), Commerce.

ACTION: Inseason adjustments to management measures and a request for comments.

SUMMARY: NMFS announces inseason adjustments to the Pacific Coast limited entry trawl and fixed gear groundfish fisheries. These actions, which are authorized by the Pacific Coast Groundfish Fishery Management Plan (FMP), will allow fisheries access to more abundant groundfish stocks while protecting overfished and depleted stocks.

DATES: Changes to management measures are effective 0001 hours (local time) on July 1, 2004, until the 2005-2006 specifications and management measures are effective, unless modified, superseded, or rescinded through a publication in the Federal Register. Comments on this rule will be accepted through August 2, 2004.

ADDRESSES: You may submit comments, identified by (i.d #), by any of the following methods:

• E-mail: GroundfishInseason#5.nwr@noaa.gov. Include the I.D. number in the subject line of the message.

• Federal eRulemaking Portal: http://www.regulations.gov. Follow the instructions for submitting comments.

• Mail: D. Robert Lohn, Administrator, Northwest Region, NMFS, 7600 Sand Point Way, NE., Seattle, WA 98115-0070, Attn. Carrie Nordeen.

• Fax: 206-526-6736.

FOR FURTHER INFORMATION CONTACT: Carrie Nordeen (Northwest Region, NMFS), phone: 206-526-6144; fax: 206-526-6736; and e-mail: carrie.nordeen@noaa.gov.

SUPPLEMENTARY INFORMATION:

Electronic Access

This Federal Register document is available on the Government Printing Office's Web site at: www.gpoaccess.gov/fr/index.html.

Background information and documents are available at the NMFS Northwest Region Web site at: www.nwr.noaa.gov/1sustfsh/gdfsh01.htm and at the Pacific Fishery Management Council's Web site at: www.pcouncil.org.

Background

The Pacific Coast Groundfish FMP and its implementing regulations at 50 CFR part 660, subpart G, regulate fishing for over 80 species of groundfish off the coast of Washington, Oregon, and California. Groundfish specifications and management measures are developed by the Pacific Fishery Management Council (Pacific Council) and are implemented by NMFS. The specifications and management measures for the 2004 fishing year (January 1—December 31, 2004) were initially published in the Federal Register as an emergency rule for January 1-February 29, 2004 (69 FR 1322, January 8, 2004) and as a proposed rule for March 1-December 31, 2004 (69 FR 1380, January 8, 2004). The emergency rule was amended at 69 FR 4084, January 28, 2004. The final rule for March 1-December 31, 2004 was published in the Federal Register on March 9, 2004 (69 FR 11064) and amended at 69 FR 23440, April 29, 2004, at 69 FR 25013, May 5, 2004, at 69 FR 28086, May 18, 2004, and at 69 FR 38857, June 29, 2004.

The following changes to current groundfish management measures were recommended by the Pacific Council, in consultation with Pacific Coast Treaty Tribes and the States of Washington, Oregon, and California, at its June 13-18, 2004, meeting in Foster City, CA. Inseason adjustments to limited entry trawl and fixed gear management measures are in response to groundfish landings through the end of April and projected catch through the end of the year. Adjusted management measures are intended to: (1) Allow groundfish optimum yields (OYs) to be achieved but not exceeded, (2) reduce the discard of overfished species by providing for incidental catch allowances in target fisheries for abundant groundfish species, (3) clarify limited entry trawl differential trip limits, (4) adjust limited entry trawl gear requirements, and (5) revise both the 75 fm (137 m) and 150 fm (274 m) rockfish conservation area boundaries so that they more closely follow their respective depth contours. Pacific Coast groundfish landings will be monitored throughout the year, and further adjustments to trip limits or management measures will be made as necessary to allow the achievement of or to avoid exceeding the 2004 OYs.

Limited Entry Trawl Differential Footrope Limits Coastwide

Differential limited entry trawl trip limits have been used as a fisheries management tool in the Pacific Coast groundfish fishery since 2000. Initially, higher trip limits were available if fishers used small footrope or midwater gear, as opposed to large footrope gear, during harvesting. Generally, neither small footrope or midwater gear are useful for trawling the ocean floor in areas of high relief, rocky habitat. Encouraging the use of these gear types was intended to decrease the catch of certain rockfish species associated with the ocean floor and to protect rocky habitat. When rockfish conservation areas (RCAs) were established in 2003, NMFS slightly modified the intent and application of differential trawl trip limits. As of 2003, the use of small footrope and/or midwater gear has been permitted both shoreward and seaward of the RCA coastwide, while the use of large footrope gear has only been permitted seaward of the RCA coastwide. Certain overfished species, specifically canary rockfish, require low harvest levels for rebuilding and are more likely to be encountered shoreward of the trawl RCA than seaward of the trawl RCA. In 2003, management measures were designed in part to discourage trawling on the ocean floor shoreward of the RCA and encourage fishing seaward of the RCA and/or the use of midwater trawl gear. For 2003, higher trip limits were available seaward of the RCA if fishers used large footrope or midwater trawl gear rather than small footrope trawl gear. In the area between the U.S./Canada border and 40°10′ N. lat., higher trip limits were available if fishers used large footrope or midwater trawl gear during 2004, with large footrope gear permitted only seaward of the RCA. Because canary rockfish are less frequently encountered by trawl fisheries in the area between 40°10′ N. lat. and the U.S./Mexico border, differential trip limits vary on a species by species basis and encourage fishing both shoreward and seaward of the RCA.

At the June Pacific Council meeting, the Pacific Council's Groundfish Management Team (GMT) discussed the intent and application of differential trip limits. They clarified that in the area between the U.S./Canada border and 40°10′ N. lat. midwater trawl gear should only be used in the Pacific whiting fishery and that midwater trawl trip limits were only intended as incidental catch allowances in the whiting fishery. In order to discourage the use of midwater trawl gear shoreward of the RCA in the area between the U.S./Canada border and 40°10′ N. lat. and restore the intent of midwater trawl trip limits, the GMT recommended removing midwater trawl trip limits for groundfish species not associated with the whiting fishery. Widow rockfish, an overfished species, and yellowtail rockfish are encountered in the whiting fishery. Incidental catch allowances for these two species minimizes the harvest of widow rockfish by discouraging directed fishing for these species while reducing groundfish discard by allowing the landing of widow and yellowtail rockfish encountered in the whiting fishery. The Pacific Council concurred with the GMT's recommendation, therefore, midwater trip limits will be removed from Table 3 (North) for all groundfish species except whiting, widow rockfish, and yellowtail rockfish. The GMT also identified for 2004 that offering low trip limits for small footrope and/or midwater trawl gear, in the area between 40°10′ N. lat. and the U.S./Mexico border, does not provide for a midwater chilipepper fishery seaward of the RCA (for more information see the discussion below under Limited Entry Trawl Chilipepper Trip Limit heading). Therefore, the GMT recommended that higher trip limits be contingent upon the use of large footrope and/or midwater trawl gear seaward of the RCA for the remainder of the year. To ensure consistency with the chilipepper fishery and enhance the enforceability of differential trip limits south of 40°10′ N. lat., higher trip limits offered for bocaccio, lingcod, and minor shelf and widow rockfish will be contingent upon the use of large footrope and/or midwater trawl gear seaward of the RCA (for more information see discussion below under Incidental Catch Allowances in the Limited Entry Trawl Fishery heading).

In order to further encourage trawling seaward rather than shoreward of the RCA, thereby limiting the harvest of canary rockfish, NMFS also implemented another requirement associated with differential trawl trip limits coastwide in 2003. If fishers used small footrope trawl gear at any time or in any area coastwide during a two-month cumulative limit period, they would be restricted to the more restrictive, smaller trip limits available with small footrope gear for the two-month cumulative limit period. The GMT reviewed the intent and application of this differential trip limit requirement at the June Pacific Council meeting and found this requirement to be unnecessarily restrictive. This requirement was primarily developed to limit the harvest of canary rockfish. While canary rockfish are distributed coastwide, the stock is more concentrated in the area between the U.S./Canada border and 40°10′ N. lat. Therefore, the GMT recommended, and the Pacific Council concurred with, the requirement that if fishers use small footrope trawl gear north of 40°10′ N. lat. any time during a two-month cumulative limit period, they would be restricted to the more restrictive, smaller trip limits available with small footrope gear for the two-month cumulative limit period. However, the Pacific Council also recommended that if vessels do not use small footrope trawl gear north of 40°10′ N. lat., vessels are not restricted to the more restrictive, smaller trip limits available with small footrope gear for the two-month cumulative limit period. Additionally, for the area north of 40°10′ N. lat., the Pacific Council recommended that on non-whiting trips, vessels with both large footrope and midwater trawl gear on board during a trip may land the large footrope limits while fishing with large footrope gear seaward of the RCA should be added. In the area south of 40°10′ N. lat., vessels may have more than one type of limited entry bottom trawl gear on board, but the most restrictive trip limit associated with the gear on board applies for that trip and will count toward the cumulative trip limit for that gear. For clarification, the Pacific Council recommended that language be added stating that for vessels using more than one type of trawl gear during a cumulative limit period, limits are additive up to the largest limit for the type of gear used during that period. For example, if a vessel harvests 800 lb (363 kg) of chilipepper rockfish with small footrope gear, it may harvest up to 11,200 lb (5,080 kg) of chilipepper rockfish with large footrope gear during July and August. These differential trip limit changes are reflected in the limited entry trawl trip limit tables (Table 3(North) and Table 3(South)).

Limited Entry Trawl Sablefish, Dover Sole, and Shortspine Thornyhead and Petrale Sole Trip Limits

At the beginning of 2004, NMFS took precautionary measures and set relatively low limited entry trawl trip limits pending new trawl bycatch model catch predictions. NMFS updated trawl bycatch model catch predictions by incorporating additional West Coast Observer Program data (2002-2003) and by adjusting for the limited entry trawl permit and vessel buyback. Based on these updated trawl catch predictions, NMFS increased the limited entry trawl trip limits for the remainder of 2004 (69 FR 28086, May 18, 2004).

Following the increased limited entry trawl trip limits effective in May, landings reported in the Pacific Coast Fisheries Information Network (PacFIN) were higher than predicted for Dover sole, shortspine thornyhead, sablefish, and petrale sole. In order to slow the fishery and allow for year-around trawling opportunities, the Council recommended that trip limits be lowered for these species.

When the 2004 trawl trip limits for flatfish were developed, NMFS's intent was to include the petrale sole trip limit as a sublimit of the “other flatfish” trip limit. However, in both the emergency rule (69 FR 1322, January 8, 2004) implementing groundfish specifications and management measures for January-February and the final rule (69 FR 11064, March 9, 2004) implementing management measures for March-December, both petrale sole and “other flatfish” had independent trip limits. As mentioned above, the catch of petrale sole is tracking higher than predicted in PacFIN through the end of April. Therefore, the Pacific Council recommended that the petrale sole trip limit be incorporated as a sublimit of the “other flatfish” limit with this inseason action as was NMFS's intent at the beginning of the year, as well as reducing the trip limit.

Given the above recommendations, in the area between the U.S./Canada border and 40°10′ N. lat., the adjusted trip limits for sablefish, shortspine thornyhead, Dover sole, petrale sole, and “other flatfish” are as follows. The limited entry trawl large footrope trip limit for sablefish will be decreased from 16,000 lb (7,257 kg) per two months to 15,000 lb (6,804 kg) per two months for July-October. The previously scheduled November-December large footrope sablefish trip limit of 11,000 lb (4,990 kg) per two months remains unchanged. The limited entry trawl large footrope trip limit for shortspine thornyhead will be decreased from 4,500 lb (2,041 kg) per two months to 4,100 lb (1,860 kg) per two months for July-December. The limited entry trawl large footrope trip limit for Dover sole will be decreased from 32,000 lb (14,515 kg) per two months to 31,000 lb (13,801 kg) per two months for July-October. The previously scheduled November-December large footrope Dover sole trip limit of 50,000 lb (22,680 kg) per two months remains unchanged. The limited entry trawl large footrope trip limit for petrale sole will be decreased from 100,000 lb (45,359 kg) per two months to a combined “other flatfish” large footrope limit of 100,000 lb (45,359 kg) per two months, no more than 30,000 lb (13,608 kg) of which may be petrale sole, for July-October. As was previously scheduled for November-December, the harvest of petrale sole with large footrope gear will not be limited. The limited entry trawl small footrope trip limit for “other flatfish” will be decreased from 80,000 lb (36,287 kg) per two months, no more than 30,000 lb (13,608 kg) of which may be petrale sole, to 80,000 lb (36,287 kg) per two months, no more than 26,000 lb (11,793 kg) of which may be petrale sole, for July-October. The previously scheduled November-December small footrope “other flatfish” trip limit of 70,000 lb (31,752 kg) per two months, no more than 20,000 lb (9,072 kg) of which may be petrale sole, remains unchanged.

In the area between 40°10′ N. lat. and the U.S./Mexico border, the adjusted trip limits for sablefish, shortspine thornyhead, and Dover sole are as follows. The limited entry trawl trip limit for sablefish will be decreased from 14,500 lb (6,577 kg) per two months to 13,000 lb (5,897 kg) per two months for July-December. The limited entry trawl trip limit for shortspine thornyhead will be decreased from 4,500 lb (2,041 kg) per two months to 4,100 lb (1,860 kg) per two months for July-December. The limited entry trawl trip limit for Dover sole will be decreased from 49,000 lb (22,226 kg) per two months to 48,000 lb (21,772 kg) per two months for July-October. The previously scheduled November-December Dover sole trip limit of 49,000 lb (22,226 kg) per two months remains unchanged.

Limited Entry Midwater and Small Footrope Trawl Chilipepper Trip Limit South of 40°10′ N. Lat.

Because chilipepper rockfish (an abundant groundfish species) and bocaccio (an overfished groundfish species) are co-occurring species, limited entry trawl limits for chilipepper rockfish were incorporated as part of minor shelf rockfish limits in 2003 to eliminate all targeting opportunities for chilipepper where bocaccio may have been incidentally taken. The 2004 bocaccio OY (250 mt) was set higher than the 2003 bocaccio OY (≤ 20 mt) following a new stock assessment. With a higher bocaccio OY in 2004, conservative targeting opportunities for chilipepper were restored.

At the June Pacific Council meeting, the GMT received a request from the Pacific Council's Groundfish Advisory Panel (GAP) that trip limits in Table 3 (South) allow for a midwater chilipepper fishery seaward of the RCA. The previously scheduled midwater trawl and/or small footrope chilipepper limit was low (300 lb (136 kg) per two months) to allow for incidental catch while discouraging fishing shoreward of the RCA. By specifying that midwater trawl gear may not be used shoreward of the RCA south of 40°10′ N. lat., midwater trip limits are available only seaward of the RCA and may be increased to be equivalent to the limits available using large footrope trawl gear. Therefore, the GMT recommended and the Pacific Council concurred that the limited entry trawl midwater limit for chilipepper be increased from 300 lb (136 kg) per month to the previously scheduled large footrope limit of 12,000 lb (5,443 kg) per two months during July-August and 8,000 lb (3,629 kg) per two months for September-December. Additionally, the California Department of Fish and Game (CDFG) recommended and the Pacific Council concurred that the limited entry trawl small footrope limit for minor shelf, widow, and chilipepper rockfish be increased from 300 lb (136 kg) per month to 1,000 lb (454 kg) per month, no more than 200 lb (90 kg) per month of which may be minor shelf and widow rockfish. These trip limit adjustments will provide much needed revenue for the limited entry trawl fleet without resulting in excessive catch of bocaccio.

Limited Entry Trawl Widow Rockfish and Yellowtail Rockfish Midwater Trip Limits

When developing the 2004 groundfish management measures and specifications in the fall of 2003, it was NMFS's intention to prohibit the directed widow rockfish and yellowtail rockfish midwater trawl fishery during November-December. This action is necessary to prohibit the directed widow rockfish midwater fishery during November-December because the 2004 widow rockfish OY is intended to allow for the incidental catch of widow rockfish, but it cannot accommodate a directed fishery. Because widow and canary rockfish are known to co-occur with yellowtail rockfish, it is necessary to also prohibit the directed yellowtail rockfish midwater fishery during November and December to keep the harvest of widow and canary rockfish within their 2004 OYs. Therefore, the Pacific Council recommended that the limited entry trawl trip limit Table 3 (North) be adjusted to prohibit the directed midwater fishery for widow rockfish and yellowtail rockfish during November-December.

Incidental Catch Allowances in the Limited Entry Trawl Fishery

Harvest levels for overfished groundfish species are developed using each species' rebuilding plan specifications. Trip limits for overfished species are generally low and designed to allow overfished stocks to rebuild while allowing for the incidental catch of overfished species during the harvesting of co-occurring abundant groundfish species. These trip limits are not intended to provide for directed fishing on overfished stocks.

At the June Pacific Council meeting, the GMT received feedback from the GAP that some limited entry trawl limits for overfished species are not adequate to provide incidental catch allowances in the limited entry trawl fishery and are resulting in discard. In May 2004, NMFS implemented limited entry trawl increases for DTS (Dover sole, thornyheads, sablefish) species and chilipepper rockfish (69 FR 28086, May 18, 2004). Based on those trip limit increases, the GMT determined that trip limits for lingcod and widow rockfish, could be increased to accommodate incidental catch in the DTS fishery. Similarly, trip limits for bocaccio could be increased to allow for the incidental catch in the chilipepper fishery. Incorporating the previously discussed inseason adjustments to differential trip limits, the Pacific Council recommended the following trip limit increases.

In the area between the U.S./Canada border and 40°10′ N. lat., the limited entry trawl large footrope trip limit for lingcod will be 500 lb (227 kg) per two months for July-December. In the area between 40°10′ N. lat. and the U.S./Mexico border, the limited entry trawl large footrope and midwater trip limit for lingcod will be 500 lb (227 kg) per two months for July-December. Previously, the retention of lingcod with large footrope or midwater trawl gear was prohibited coastwide. In the area between the U.S./Canada border and 40°10′ N. lat., the limited entry trawl large footrope trip limit for minor shelf and widow rockfish will be 300 lb (136 kg) per two months for July-December. Similar to the previously scheduled lingcod limit, the retention of minor shelf and widow rockfish was prohibited. In the area between 40°10′ N. lat. and the U.S./Mexico border, the limited entry trawl large footrope and midwater trip limit for bocaccio will be increased from 100 lb (45 kg) per two months to 300 lb (136 kg) per two months for July-December. These limited entry trawl trip limit increases will reduce discard in the Pacific Coast groundfish fisheries and enable the OYs for DTS species and chilipepper rockfish to be achieved but not exceeded while continuing to allow for the rebuilding of overfished stocks.

Limited Entry Fixed Gear Bocaccio Limits Between 40°10′ N. Lat. and 34°27′ N. Lat.

In keeping with bocaccio trip limit increases in the limited entry trawl fishery, to accommodate incidental catch in the chilipepper fishery, the Pacific Council also recommended increasing the fixed gear bocaccio trip limit for the remainder of the year. Therefore, in the area between 40°10′ N. lat. and 34°27′ N. lat., the limited entry fixed gear limit for bocaccio will be increased from 100 lb (45 kg) per two months during July-August and 200 lb (90 kg) per two months during September-December to 300 lb (136 kg) per two months for the remainder of the year. Neither this inseason adjustment nor any other inseason adjustments are predicted to cause the total mortality of bocaccio to exceed its 2004 OY.

Adjustments to Rockfish Conservation Area Boundaries

During the June Pacific Council meeting, Washington Department of Fish and Wildlife (WDFW) and CDFG requested adjustments to RCA boundaries. CDFG requested adjustments to specific latitude and longitude coordinates in the 75 fm (137 m) RCA boundary to allow the RCA to more closely follow the 75 fm (137 m) depth contour and allow access to sandy areas for sanddab fishing in California's Half Moon Bay area. This request was included in the GMT's statement on inseason actions and recommended by the Pacific Council. Additionally, WDFW requested adjustments to the 150 fm (274 m) RCA boundary off Washington so that it would more closely follow the 150 fm (274 m) depth contour and would be similar to Washington's Winter Petrale RCA boundary (which also follows the 150 fm (137 m) depth contour). WDFW's request was made to NMFS directly and was not included in the GMT statement or Pacific Council recommendation. NMFS will implement both adjustments to the RCA boundaries with this inseason action.

NMFS Actions

For the reasons stated herein, NMFS concurs with the Pacific Council's recommendations and hereby announces the following changes to the 2004 specifications and management measures (69 FR 11064, March 9, 2004, as amended at 69 FR 23440, April 29, 2004, at 69 FR 25013, May 5, 2004, at 69 FR 28086, May 18, 2004, and at 69 FR 38857, June 29, 2004) to read as follows:

1. On page 11087, in section IV. NMFS Actions, under A. General Definitions and Provisions, revise paragraphs (14)(b)(ii) and (iii) to read as follows:

IV. NMFS Actions

* * * * *

A. General Definitions and Provisions

(14) * * *

(b) * * *

(ii) Small footrope or midwater trawl gear. Cumulative trip limits for canary rockfish, widow rockfish (South of 40°10′ N. lat.,) yellowtail rockfish (North of 40°10′ N. lat.,) minor shelf rockfish (North of 40°10′ N. lat.,) minor nearshore rockfish, as indicated in Table 3 to section IV., are allowed only if small footrope gear or midwater trawl gear is used, and if that gear meets the specifications in paragraph IV.A.(14) and at 50 CFR 660.322. For Dover sole, longspine thornyhead, shortspine thornyhead, flatfish complex species including petrale sole, rex sole, or arrowtooth flounder there are or may be cumulative trip limits that are more restrictive for vessels using small footrope gear than for large footrope gear or midwater gear. These more restrictive limits recognize that small footrope gear may be used inshore of the RCAs and are intended to limit trawl effort in the nearshore area. North of 40°10′ N. lat., limits are generally more restrictive for small footrope trawl gear. When limits are more restrictive for small footrope gear, those limits apply to and constrain any vessel using small footrope gear north of 40°10′ N. lat. at any time during the cumulative limit period to which the landings limits apply.

(iii) Midwater trawl gear. Yellowtail and widow rockfish are only available to trawl vessels using midwater trawl gear when those vessels are fishing for Pacific whiting during the primary whiting season. Each landing that contains yellowtail or widow rockfish is attributed to the gear on board with the most restrictive trip limit for those species. Landings attributed to small footrope trawl must not exceed the small footrope limit, and landings attributed to midwater trawl must not exceed the midwater trawl limit. If a vessel has landings attributed to small footrope and midwater trawl during a cumulative trip limit period, all landings are counted toward the most restrictive gear-specific cumulative limit. On non-whiting trips, vessels with both large footrope and midwater trawl gear on board during a trip may land the large footrope limits while fishing with large footrope gear seaward of the RCA.

2. On pages 11094-11095, in section IV. NMFS Actions, under A. General Definitions and Provisions, paragraph (17)(vi) is revised to read as follows:

* * * * *

(131) 37°24.16′ N. lat., 122°51.96′ W. long.;

(132) 37°23.32′ N. lat., 122°52.38′ W. long.;

(133) 37°04.12′ N. lat., 122°38.94′ W. long.;

(134) 36°00.64′ N. lat., 122°33.26′ W. long.;

(135) 36°59.15′ N. lat., 122°27.84′ W. long.;

(136) 37°01.41′ N. lat., 122°24.41′ W. long.;

(137) 36°58.75′ N. lat., 122°23.81′ W. long.;

(138) 36°59.17′ N. lat., 122°21.44′ W. long.;

(139) 36°57.51′ N. lat., 122°20.69′ W. long.;

(140) 36°51.46′ N. lat., 122°10.01′ W. long.;

(141) 36°48.43′ N. lat., 122°06.47′ W. long.;

(142) 36°48.66′ N. lat., 122°04.99′ W. long.;

(143) 36°47.75′ N. lat., 122°03.33′ W. long.;

(144) 36°51.23′ N. lat., 121°57.79′ W. long.;

(145) 36°49.72′ N. lat., 121°57.87′ W. long.;

(146) 36°48.84′ N. lat., 121°58.68′ W. long.;

(147) 36°47.89′ N. lat., 121°58.53′ W. long.;

(148) 36°48.66′ N. lat., 121°50.49′ W. long.;

(149) 36°45.56′ N. lat., 121°54.11′ W. long.;

(150) 36°45.30′ N. lat., 121°57.62′ W. long.;

(151) 36°38.54′ N. lat., 122°01.13′ W. long.;

(152) 36°35.76′ N. lat., 122°00.87′ W. long.;

(153) 36°32.58′ N. lat., 121°59.12′ W. long.;

(154) 36°32.95′ N. lat., 121°57.62′ W. long.;

(155) 36°31.96′ N. lat., 121°56.27′ W. long.;

(156) 36°31.74′ N. lat., 121°58.24′ W. long.;

(157) 36°30.57′ N. lat., 121°59.66′ W. long.;

(158) 36°27.80′ N. lat., 121°59.30′ W. long.;

(159) 36°26.52′ N. lat., 121°58.09′ W. long.;

(160) 36°23.65′ N. lat., 121°58.94′ W. long.;

(161) 36°20.93′ N. lat., 122°00.28′ W. long.;

(162) 36°18.23′ N. lat., 122°03.10′ W. long.;

(163) 36°14.21′ N. lat., 121°57.73′ W. long.;

(164) 36°14.68′ N. lat., 121°55.43′ W. long.;

(165) 36°10.42′ N. lat., 121°42.90′ W. long.;

(166) 36°02.55′ N. lat., 121°36.35′ W. long.;

(167) 36°01.04′ N. lat., 121°36.47′ W. long.;

(168) 35°58.25′ N. lat., 121°32.88′ W. long.;

(169) 35°39.35′ N. lat., 121°22.63′ W. long.;

(170) 35°24.44′ N. lat., 121°02.23′ W. long.;

(171) 35°10.84′ N. lat., 120°55.90′ W. long.;

(172) 35°04.35′ N. lat., 120°51.62′ W. long.;

(173) 34°55.25′ N. lat., 120°49.36′ W. long.;

(174) 34°47.95′ N. lat., 120°50.76′ W. long.;

(175) 34°39.27′ N. lat., 120°49.16′ W. long.;

(176) 34°31.05′ N. lat., 120°44.71′ W. long.;

(177) 34°27.00′ N. lat., 120°36.54′ W. long.;

(178) 34°22.60′ N. lat., 120°25.41′ W. long.;

(179) 34°25.45′ N. lat., 120°17.41′ W. long.;

(180) 34°22.94′ N. lat., 119°56.40′ W. long.;

(181) 34°18.37′ N. lat., 119°42.01′ W. long.;

(182) 34°11.22′ N. lat., 119°32.47′ W. long.;

(183) 34°09.58′ N. lat., 119°25.94′ W. long.;

(184) 34°03.89′ N. lat., 119°12.47′ W. long.;

(185) 34°03.57′ N. lat., 119°06.72′ W. long.;

(186) 34°04.53′ N. lat., 119°04.90′ W. long.;

(187) 34°02.84′ N. lat., 119°02.37′ W. long.;

(188) 34°01.30′ N. lat., 119°00.26′ W. long.;

(189) 34°00.22′ N. lat., 119°03.20′ W. long.;

(190) 33°59.60′ N. lat., 119°03.16′ W. long.;

(191) 33°59.46′ N. lat., 119°00.88′ W. long.;

(192) 34°00.49′ N. lat., 118°59.08′ W. long.;

(193) 33°59.07′ N. lat., 118°47.34′ W. long.;

(194) 33°58.73′ N. lat., 118°36.45′ W. long.;

(195) 33°55.24′ N. lat., 118°33.42′ W. long.;

(196) 33°53.71′ N. lat., 118°38.01′ W. long.;

(197) 33°51.22′ N. lat., 118°36.17′ W. long.;

(198) 33°49.85′ N. lat., 118°32.31′ W. long.;

(199) 33°49.61′ N. lat., 118°28.07′ W. long.;

(200) 33°49.95′ N. lat., 118°26.38′ W. long.;

(201) 33°50.36′ N. lat., 118°25.84′ W. long.;

(202) 33°49.84′ N. lat., 118°24.78′ W. long.;

(203) 33°47.53′ N. lat., 118°30.12′ W. long.;

(204) 33°44.11′ N. lat., 118°25.25′ W. long.;

(205) 33°41.77′ N. lat., 118°20.32′ W. long.;

(206) 33°38.17′ N. lat., 118°15.70′ W. long.;

(207) 33°37.48′ N. lat., 118°16.73′ W. long.;

(208) 33°36.01′ N. lat., 118°16.55′ W. long.;

(209) 33°33.76′ N. lat., 118°11.37′ W. long.;

(210) 33°33.76′ N. lat., 118°07.94′ W. long.;

(211) 33°35.59′ N. lat., 118°05.05′ W. long.;

(212) 33°33.75′ N. lat., 117°59.82′ W. long.;

(213) 33°35.10′ N. lat., 117°55.68′ W. long.;

(214) 33°34.91′ N. lat., 117°53.76′ W. long.;

(215) 33°30.77′ N. lat., 117°47.56′ W. long.;

(216) 33°27.50′ N. lat., 117°44.87′ W. long.;

(217) 33°16.89′ N. lat., 117°34.37′ W. long.;

(218) 33°06.66′ N. lat., 117°21.59′ W. long.;

(219) 33°03.35′ N. lat., 117°20.92′ W. long.;

(220) 33°00.07′ N. lat., 117°19.02′ W. long.;

(221) 32°55.99′ N. lat., 117°18.60′ W. long.;

(222) 32°54.43′ N. lat., 117°16.93′ W. long.;

(223) 32°52.13′ N. lat., 117°16.55′ W. long.;

(224) 32°52.61′ N. lat., 117°19.50′ W. long.;

(225) 32°46.95′ N. lat., 117°22.81′ W. long.;

(226) 32°45.01′ N. lat., 117°22.07′ W. long.;

(227) 32°43.40′ N. lat., 117°19.80′ W. long.; and

(228) 32°33.74′ N. lat., 117°18.67′ W. long

3. On pages 11099-11100, in section IV. NMFS Actions, under A. General Definitions and Provisions, paragraph (17)(ix) is revised to read as follows:

* * * * *

(13) 47°56.53′ N. lat., 125°30.33′ W. long.;

(14) 47°57.28′ N. lat., 125°27.89′ W. long.;

(15) 47°59.00′ N. lat., 125°25.50′ W. long.;

(16) 48°01.77′ N. lat., 125°24.05′ W. long.;

(17) 48°02.13′ N. lat., 125°22.80′ W. long.;

(18) 48°03.00′ N. lat., 125°22.50′ W. long.;

(19) 48°03.46′ N. lat., 125°22.10′ W. long.;

(20) 48°04.29′ N. lat., 125°20.37′ W. long.;

(21) 48°02.00′ N. lat., 125°18.50′ W. long.;

(22) 48°00.01′ N. lat., 125°19.90′ W. long.;

(23) 47°58.75′ N. lat., 125°17.54′ W. long.;

(24) 47°53.50′ N. lat., 125°13.50′ W. long.;

(25) 47°48.88′ N. lat., 125°05.91′ W. long.;

(26) 47°48.50′ N. lat., 125°05.00′ W. long.;

(27) 47°45.98′ N. lat., 125°04.26′ W. long.;

(28) 47°45.00′ N. lat., 125°05.50′ W. long.;

(29) 47°42.11′ N. lat., 125°04.74′ W. long.;

(30) 47°39.00′ N. lat., 125°06.00′ W. long.;

(31) 47°35.53′ N. lat., 125°04.55′ W. long.;

(32) 47°30.90′ N. lat., 124°57.31′ W. long.;

(33) 47°29.54′ N. lat., 124°56.50′ W. long.;

(34) 47°29.50′ N. lat., 124°54.50′ W. long.;

(35) 47°28.57′ N. lat., 124°51.50′ W. long.;

(36) 47°25.00′ N. lat., 124°48.00′ W. long.;

(37) 47°23.95′ N. lat., 124°47.24′ W. long.;

(38) 47°23.00′ N. lat., 124°47.00′ W. long.;

(39) 47°21.00′ N. lat., 124°46.50′ W. long.;

(40) 47°18.20′ N. lat., 124°45.84′ W. long.;

(41) 47°18.50′ N. lat., 124°49.00′ W. long.;

(42) 47°19.17′ N. lat., 124°50.86′ W. long.;

(43) 47°18.07′ N. lat., 124°53.29′ W. long.;

(44) 47°17.78′ N. lat., 124°51.39′ W. long.;

(45) 47°16.81′ N. lat., 124°50.85′ W. long.;

(46) 47°15.96′ N. lat., 124°53.15′ W. long.;

(47) 47°14.31′ N. lat., 124°52.62′ W. long.;

(48) 47°11.87′ N. lat., 124°56.90′ W. long.;

(49) 47°12.39′ N. lat., 124°58.09′ W. long.;

(50) 47°09.50′ N. lat., 124°57.50′ W. long.;

(51) 47°09.00′ N. lat., 124°59.00′ W. long.;

(52) 47°06.06′ N. lat., 124°58.80′ W. long.;

(53) 47°03.62′ N. lat., 124°55.96′ W. long.;

(54) 47°02.89′ N. lat., 124°56.89′ W. long.;

(55) 47°01.04′ N. lat., 124°59.54′ W. long.;

(56) 46°58.47′ N. lat., 124°59.08′ W. long.;

(57) 46°58.29′ N. lat., 125°00.28′ W. long.;

(58) 46°56.30′ N. lat., 125°00.75′ W. long.;

(59) 46°57.09′ N. lat., 124°58.86′ W. long.;

(60) 46°55.95′ N. lat., 124°54.88′ W. long.;

(61) 46°54.79′ N. lat., 124°54.14′ W. long.;

(62) 46°58.00′ N. lat., 124°50.00′ W. long.;

(63) 46°54.50′ N. lat., 124°49.00′ W. long.;

(64) 46°54.53′ N. lat., 124°52.94′ W. long.;

(65) 46°49.52′ N. lat., 124°53.41′ W. long.;

(66) 46°42.24′ N. lat., 124°47.86′ W. long.;

(67) 46°39.50′ N. lat., 124°42.50′ W. long.;

(68) 46°37.50′ N. lat., 124°41.00′ W. long.;

(69) 46°36.50′ N. lat., 124°38.00′ W. long.;

(70) 46°33.85′ N. lat., 124°36.99′ W. long.;

(71) 46°33.50′ N. lat., 124°29.50′ W. long.;

(72) 46°32.00′ N. lat., 124°31.00′ W. long.;

(73) 46°30.53′ N. lat., 124°30.55′ W. long.;

(74) 46°25.50′ N. lat., 124°33.00′ W. long.;

(75) 46°23.00′ N. lat., 124°35.00′ W. long.;

(76) 46°21.05′ N. lat., 124°37.00′ W. long.;

(77) 46°20.64′ N. lat., 124°36.21′ W. long.;

(78) 46°20.36′ N. lat., 124°37.85′ W. long.;

(79) 46°19.48′ N. lat., 124°38.35′ W. long.;

(80) 46°18.09′ N. lat., 124°38.30′ W. long.;

(81) 46°16.15′ N. lat., 124°25.20′ W. long.;

(82) 46°14.87′ N. lat., 124°26.15′ W. long.;

(83) 46°13.38′ N. lat., 124°31.36′ W. long.;

(84) 46°12.09′ N. lat., 124°38.39′ W. long.;

(85) 46°09.46′ N. lat., 124°40.64′ W. long.;

(86) 46°07.30′ N. lat., 124°40.68′ W. long.;

(87) 46°02.76′ N. lat., 124°44.01′ W. long.;

(88) 46°01.22′ N. lat., 124°43.47′ W. long.;

(89) 45°51.82′ N. lat., 124°42.89′ W. long.;

(90) 45°45.95′ N. lat., 124°40.72′ W. long.;

(91) 45°44.11′ N. lat., 124°43.09′ W. long.;

(92) 45°34.50′ N. lat., 124°30.27′ W. long.;

(93) 45°21.10′ N. lat., 124°23.11′ W. long.;

(94) 45°09.69′ N. lat., 124°20.45′ W. long.;

(95) 44°56.25′ N. lat., 124°27.03′ W. long.;

(96) 44°44.47′ N. lat., 124°37.85′ W. long.;

(97) 44°31.81′ N. lat., 124°39.60′ W. long.;

(98) 44°31.48′ N. lat., 124°43.30′ W. long.;

(99) 44°12.04′ N. lat., 124°58.16′ W. long.;

(100) 44°07.38′ N. lat., 124°57.87′ W. long.;

(101) 43°57.06′ N. lat., 124°57.20′ W. long.;

(102) 43°52.52′ N. lat., 124°49.00′ W. long.;

(103) 43°51.55′ N. lat., 124°37.49′ W. long.;

(104) 43°47.83′ N. lat., 124°36.43′ W. long.;

(105) 43°31.79′ N. lat., 124°36.80′ W. long.;

(106) 43°29.34′ N. lat., 124°36.77′ W. long.;

(107) 43°26.46′ N. lat., 124°40.02′ W. long.;

(108) 43°16.15′ N. lat., 124°44.37′ W. long.;

(109) 43°09.33′ N. lat., 124°45.35′ W. long.;

(110) 43°08.85′ N. lat., 124°48.92′ W. long.;

(111) 43°03.23′ N. lat., 124°52.41′ W. long.;

(112) 43°00.25′ N. lat., 124°51.93′ W. long.;

(113) 42°56.62′ N. lat., 124°53.93′ W. long.;

(114) 42°54.84′ N. lat., 124°54.01′ W. long.;

(115) 42°52.31′ N. lat., 124°50.76′ W. long.;

(116) 42°47.78′ N. lat., 124°47.27′ W. long.;

(117) 42°46.32′ N. lat., 124°43.59′ W. long.;

(118) 42°41.63′ N. lat., 124°44.07′ W. long.;

(119) 42°38.83′ N. lat., 124°42.77′ W. long.;

(120) 42°35.37′ N. lat., 124°43.22′ W. long.;

(121) 42°32.78′ N. lat., 124°44.68′ W. long.;

(122) 42°32.19′ N. lat., 124°42.40′ W. long.;

(123) 42°30.28′ N. lat., 124°44.30′ W. long.;

(124) 42°28.16′ N. lat., 124°48.38′ W. long.;

(125) 42°18.34′ N. lat., 124°38.77′ W. long.;

(126) 42°13.65′ N. lat., 124°36.82′ W. long.;

(127) 42°00.15′ N. lat., 124°35.81′ W. long.;

(128) 42°00.00′ N. lat., 124°35.99′ W. long.;

(129) 41°47.80′ N. lat., 124°29.41′ W. long.;

(130) 41°23.51′ N. lat., 124°29.50′ W. long.;

(131) 41°13.29′ N. lat., 124°23.31′ W. long.;

(132) 41°06.23′ N. lat., 124°22.62′ W. long.;

(133) 40°55.60′ N. lat., 124°26.04′ W. long.;

(134) 40°49.62′ N. lat., 124°26.57′ W. long.;

(135) 40°45.72′ N. lat., 124°30.00′ W. long.;

(136) 40°40.56′ N. lat., 124°32.11′ W. long.;

(137) 40°37.33′ N. lat., 124°29.27′ W. long.;

(138) 40°35.60′ N. lat., 124°30.49′ W. long.;

(139) 40°37.38′ N. lat., 124°37.14′ W. long.;

(140) 40°36.03′ N. lat., 124°39.97′ W. long.;

(141) 40°31.59′ N. lat., 124°40.74′ W. long.;

(142) 40°29.76′ N. lat., 124°38.13′ W. long.;

(143) 40°28.22′ N. lat., 124°37.23′ W. long.;

(144) 40°24.86′ N. lat., 124°35.71′ W. long.;

(145) 40°23.01′ N. lat., 124°31.94′ W. long.;

(146) 40°23.39′ N. lat., 124°28.64′ W. long.;

(147) 40°22.29′ N. lat., 124°25.25′ W. long.;

(148) 40°21.90′ N. lat., 124°25.18′ W. long.;

(149) 40°22.02′ N. lat., 124°28.00′ W. long.;

(150) 40°21.34′ N. lat., 124°29.53′ W. long.;

(151) 40°19.74′ N. lat., 124°28.95′ W. long.;

(152) 40°18.13′ N. lat., 124°27.08′ W. long.;

(153) 40°17.45′ N. lat., 124°25.53′ W. long.;

(154) 40°17.97′ N. lat., 124°24.12′ W. long.;

(155) 40°15.96′ N. lat., 124°26.05′ W. long.;

(156) 40°17.00′ N. lat., 124°35.01′ W. long.;

(157) 40°15.97′ N. lat., 124°35.90′ W. long.;

(158) 40°10.00′ N. lat., 124°22.96′ W. long.;

(159) 40°07.00′ N. lat., 124°19.00′ W. long.;

(160) 40°08.10′ N. lat., 124°16.70′ W. long.;

(161) 40°05.90′ N. lat., 124°17.77′ W. long.;

(162) 40°02.99′ N. lat., 124°15.55′ W. long.;

(163) 40°02.00′ N. lat., 124°12.97′ W. long.;

(164) 40°02.60′ N. lat., 124°10.61′ W. long.;

(165) 40°03.63′ N. lat., 124°09.12′ W. long.;

(166) 40°02.18′ N. lat., 124°09.07′ W. long.;

(167) 39°58.25′ N. lat., 124°12.56′ W. long.;

(168) 39°57.03′ N. lat., 124°11.34′ W. long.;

(169) 39°56.30′ N. lat., 124°08.96′ W. long.;

(170) 39°54.82′ N. lat., 124°07.66′ W. long.;

(171) 39°52.57′ N. lat., 124°08.55′ W. long.;

(172) 39°45.34′ N. lat., 124°03.30′ W. long.;

(173) 39°34.75′ N. lat., 123°58.50′ W. long.;

(174) 39°34.22′ N. lat., 123°56.82′ W. long.;

(175) 39°32.98′ N. lat., 123°56.43′ W. long.;

(176) 39°31.47′ N. lat., 123°58.73′ W. long.;

(177) 39°05.68′ N. lat., 123°57.81′ W. long.;

(178) 39°00.24′ N. lat., 123°56.74′ W. long.;

(179) 38°54.31′ N. lat., 123°56.73′ W. long.;

(180) 38°41.42′ N. lat., 123°46.75′ W. long.;

(181) 38°39.61′ N. lat., 123°46.48′ W. long.;

(182) 38°37.52′ N. lat., 123°43.78′ W. long.;

(183) 38°35.25′ N. lat., 123°42.00′ W. long.;

(184) 38°28.79′ N. lat., 123°37.07′ W. long.;

(185) 38°19.88′ N. lat., 123°32.54′ W. long.;

(186) 38°14.43′ N. lat., 123°25.56′ W. long.;

(187) 38°08.75′ N. lat., 123°24.48′ W. long.;

(188) 38°10.10′ N. lat., 123°27.20′ W. long.;

(189) 38°07.16′ N. lat., 123°28.18′ W. long.;

(190) 38°06.42′ N. lat., 123°30.18′ W. long.;

(191) 38°04.28′ N. lat., 123°31.70′ W. long.;

(192) 38°01.88′ N. lat., 123°30.98′ W. long.;

(193) 38°00.75′ N. lat., 123°29.72′ W. long.;

(194) 38°00.00′ N. lat., 123°28.60′ W. long.;

(195) 37°58.23′ N. lat., 123°26.90′ W. long.;

(196) 37°55.32′ N. lat., 123°27.19′ W. long.;

(197) 37°51.47′ N. lat., 123°24.92′ W. long.;

(198) 37°44.47′ N. lat., 123°11.57′ W. long.;

(199) 37°36.33′ N. lat., 123°01.76′ W. long.;

(200) 37°15.16′ N. lat., 122°51.64′ W. long.;

(201) 37°01.68′ N. lat., 122°37.28′ W. long.;

(202) 36°59.70′ N. lat., 122°33.71′ W. long.;

(203) 36°58.00′ N. lat., 122°27.80′ W. long.;

(204) 37°00.25′ N. lat., 122°24.85′ W. long.;

(205) 36°57.50′ N. lat., 122°24.98′ W. long.;

(206) 36°58.38′ N. lat., 122°21.85′ W. long.;

(207) 36°55.85′ N. lat., 122°21.95′ W. long.;

(208) 36°52.02′ N. lat., 122°12.10′ W. long.;

(209) 36°47.63′ N. lat., 122°07.37′ W. long.;

(210) 36°47.26′ N. lat., 122°03.22′ W. long.;

(211) 36°50.34′ N. lat., 121°58.40′ W. long.;

(212) 36°48.83′ N. lat., 121°59.14′ W. long.;

(213) 36°44.81′ N. lat., 121°58.28′ W. long.;

(214) 36°39.00′ N. lat., 122°01.71′ W. long.;

(215) 36°29.60′ N. lat., 122°00.49′ W. long.;

(216) 36°23.43′ N. lat., 121°59.76′ W. long.;

(217) 36°18.90′ N. lat., 122°05.32′ W. long.;

(218) 36°15.38′ N. lat., 122°01.40′ W. long.;

(219) 36°13.79′ N. lat., 121°58.12′ W. long.;

(220) 36°10.12′ N. lat., 121°43.33′ W. long.;

(221) 36°02.57′ N. lat., 121°37.02′ W. long.;

(222) 36°01.01′ N. lat., 121°36.95′ W. long.;

(223) 35°57.74′ N. lat., 121°33.45′ W. long.;

(224) 35°51.32′ N. lat., 121°30.08′ W. long.;

(225) 35°45.84′ N. lat., 121°28.84′ W. long.;

(226) 35°38.94′ N. lat., 121°23.16′ W. long.;

(227) 35°26.00′ N. lat., 121°08.00′ W. long.;

(228) 35°07.42′ N. lat., 120°57.08′ W. long.;

(229) 34°42.76′ N. lat., 120°55.09′ W. long.;

(230) 34°37.75′ N. lat., 120°51.96′ W. long.;

(231) 34°29.29′ N. lat., 120°44.19′ W. long.;

(232) 34°27.00′ N. lat., 120°40.42′ W. long.;

(233) 34°21.89′ N. lat., 120°31.36′ W. long.;

(234) 34°20.79′ N. lat., 120°21.58′ W. long.;

(235) 34°23.97′ N. lat., 120°15.25′ W. long.;

(236) 34°22.11′ N. lat., 119°56.63′ W. long.;

(237) 34°19.00′ N. lat., 119°48.00′ W. long.;

(238) 34°15.00′ N. lat., 119°48.00′ W. long.;

(239) 34°08.00′ N. lat., 119°37.00′ W. long.;

(240) 34°08.39′ N. lat., 119°54.78′ W. long.;

(241) 34°07.10′ N. lat., 120°10.37′ W. long.;

(242) 34°10.08′ N. lat., 120°22.98′ W. long.;

(243) 34°13.16′ N. lat., 120°29.40′ W. long.;

(244) 34°09.41′ N. lat., 120°37.75′ W. long.;

(245) 34°03.15′ N. lat., 120°34.71′ W. long.;

(246) 33°57.09′ N. lat., 120°27.76′ W. long.;

(247) 33°51.00′ N. lat., 120°09.00′ W. long.;

(248) 33°38.16′ N. lat., 119°59.23′ W. long.;

(249) 33°37.04′ N. lat., 119°50.17′ W. long.;

(250) 33°42.28′ N. lat., 119°48.85′ W. long.;

(251) 33°53.96′ N. lat., 119°53.77′ W. long.;

(252) 33°59.94′ N. lat., 119°19.57′ W. long.;

(253) 34°03.12′ N. lat., 119°15.51′ W. long.;

(254) 34°01.97′ N. lat., 119°07.28′ W. long.;

(255) 34°03.60′ N. lat., 119°04.71′ W. long.;

(256) 33°59.30′ N. lat., 119°03.73′ W. long.;

(257) 33°58.87′ N. lat., 118°59.37′ W. long.;

(258) 33°58.08′ N. lat., 118°41.14′ W. long.;

(259) 33°50.93′ N. lat., 118°37.65′ W. long.;

(260) 33°39.54′ N. lat., 118°18.70′ W. long.;

(261) 33°35.42′ N. lat., 118°17.14′ W. long.;

(262) 33°32.15′ N. lat., 118°10.84′ W. long.;

(263) 33°33.71′ N. lat., 117°53.72′ W. long.;

(264) 33°31.17′ N. lat., 117°49.11′ W. long.;

(265) 33°16.53′ N. lat., 117°36.13′ W. long.;

(266) 33°06.77′ N. lat., 117°22.92′ W. long.;

(267) 32°58.94′ N. lat., 117°20.05′ W. long.;

(268) 32°55.83′ N. lat., 117°20.15′ W. long.;

(269) 32°46.29′ N. lat., 117°23.89′ W. long.;

(270) 32°42.00′ N. lat., 117°22.16′ W. long.;

(271) 32°39.47′ N. lat., 117°27.78′ W. long.; and

(272) 32°34.83′ N. lat., 117°24.69′ W. long.

4. On pages 11108-11114, in section IV. NMFS Actions, under B. Limited Entry Fishery, at the end of paragraph (1), Table 3 (North), Table 3 (South), Table 4 (North), and Table 4 (South) are revised to read as follows:

IV. NMFS Actions

B. Limited Entry Fishery

(1) * * *

* * * * *

BILLING CODE 3510-55-P

BILLING CODE 3510-55-C

* * * * *

Classification

These actions are authorized by the Pacific Coast groundfish FMP and their implementing regulations and are based on the most recent data available. The aggregate data upon which these actions are based are available for public inspection at the Office of the Administrator, Northwest Region, NMFS, (see ADDRESSES) during business hours.

The Assistant Administrator for Fisheries NOAA, NMFS, finds good cause to waive the requirement to provide prior notice and opportunity for public comment on this action pursuant to 5 U.S.C. 553(b)(3)(B), because providing prior notice and opportunity for comment would be impracticable. Providing prior notice and comment on the inseason adjustments would be impracticable because the data upon which these recommendations were based were provided to the Pacific Council and the Pacific Council made its recommendations at its June 13-18, 2004, meeting in Foster City, CA. As described below, there is not sufficient time after that meeting to draft this notice and undergo proposed and final rulemaking before the beginning of the next cumulative limit period, July 1, 2004, when these actions need to be in effect. Many of the previously scheduled management measures for the July-August period are more liberal than the adjustments contained in this inseason action. The delay required by notice and comment would allow sufficient fishing time so that most participants in the fishery could take the previously scheduled higher trip limits before this inseason action would be in effect. Therefore, for the actions to be implemented in this notice, prior notice and opportunity for comment would be impracticable because affording prior notice and opportunity for public comment would take too long, thus impeding the Agency's function of managing fisheries to approach without exceeding the OYs for federally managed species.

Adjustments to management measures in this inseason action include changes to the management measures for the limited entry groundfish fisheries. Changes to limited entry trawl trip limits for DTS species, yellowtail rockfish, and widow rockfish implemented with this inseason action are more conservative than previously scheduled DTS trip limits. These more conservative trip limits must be implemented in a timely manner to keep harvest of DTS species and yellowtail and widow rockfish within their 2004 OYs and/or to allow the fisheries to continue throughout the year. This inseason action contains a clarification of the intent and application of differential trip limits. Changes to differential trip limits, in the area between 40°10′ N. lat. and the U.S./Mexico border, relieve unnecessary restrictions. Incidental catch allowances for overfished species taken in the directed limited entry trawl and fixed gear fisheries for abundant groundfish stocks are also part of this inseason action. Because these incidental catch allowances will reduce discards in the Pacific Coast groundfish fisheries, while keeping the total mortality of overfished species within their 2004 OYs, they should be implemented as quickly as possible.

For these reasons, good cause also exists to waive the 30-day delay in effectiveness requirement under 5 U.S.C. 553 (d)(3).

These actions are taken under the authority of 50 CFR 660.323(b)(1) and are exempt from review under Executive Order 12866.

Authority: 16 U.S.C. 1801 et seq.

Dated: July 1, 2004.
Alan D. Risenhoover,
Acting Director, Office of Sustainable Fisheries, National Marine Fisheries Service.

[FR Doc. 04-15379 Filed 7-1-04; 3:19 pm]

BILLING CODE 3510-22-P